DEPARTMENT OF THE INTERIOR

Fish and Wildlife Service

Final Comprehensive Conservation Plan and Environmental Assessment for Squaw Creek National Wildlife Refuge (NWR), Mound City, MO

AGENCY: Fish and Wildlife Service, Interior.

ACTION: Notice of availability.

SUMMARY: The U.S. Fish and Wildlife Service (Service) announces that the final Comprehensive Conservation Plan (CCP) and Environmental Assessment (EA) is available for Squaw Creek NWR, Mound City, Missouri. The CCP was prepared pursuant to the National Wildlife Refuge System Administration Act of 1966, as amended by the National Wildlife Refuge System Improvement Act of 1997, and the National Environmental Policy Act of 1969, and using the preferred alternative, goals, and objectives, we describe how the Service intends to manage this refuge over the next 15 years.

ADDRESSES: Copies of the final CCP and EA are available on compact diskette or hard copy, you may obtain a copy by writing to: Squaw Creek National Wildlife Refuge, P.O. Box 158, Mound City, Missouri 64470 or you may access and download a copy at this Web site: http://www.fws.gov/midwest/planning/squawcreek/index.html.

FOR FURTHER INFORMATION CONTACT: Ron Bell at (660) 442-3187.

SUPPLEMENTARY INFORMATION: The National Wildlife Refuge System Administration Act of 1966, as amended by the National Wildlife Refuge System Improvement Act of 1997 (16 U.S.C. 668dd-668ee et seq.) requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

The planning process for Squaw Creek NWR began in 1999. Five management alternatives were considered. Alternative D, Optimizing Wildlife Habitat and Fish and Wildlife Populations With Enhanced Levels of Wildlife-dependent Recreation is the preferred alternative. This alternative seeks to maximize wildlife habitat and population management practices and opportunities without adversely impacting current levels of wildlife-dependent recreational opportunities. There will be no expansion of existing authorized boundaries.

The CCP identifies and increases wildlife-dependent recreational opportunities available to the public including: Initiating a managed spring snow goose hunt; investigating the potential for a fishing access area and a white-tailed deer hunt for physically challenged visitors; and enhancing trails for wildlife observation and photography, and environmental education and interpretation.

Dated: May 13, 2005.
Charles M. Wooley,
Acting Regional Director, U.S. Fish and Wildlife Service, Ft. Snelling, Minnesota.

[FR Doc. 05-16992 Filed 8-25-05; 8:45 am]

BILLING CODE 4310-55-P